DEPARTMENT OF THE INTERIOR

Bureau of Land Management

[NV-040-5101-ER-F851; NVN-79734; 6-08807]

Notice of Intent To Prepare an Environmental Impact Statement and Initiate the Public Scoping Process for Lincoln County Water District Proposed Water Production Wells, Water Transmission Pipeline, Electric Lines, and Communication Lines in Southwestern Lincoln County; NV

AGENCY: Bureau of Land Management, Interior.

ACTION: Notice of Intent to Prepare an Environmental Impact Statement and Initiate Scoping.

SUMMARY: Pursuant to Section 102(2)(C) of the National Environmental Policy Act of 1969, as amended, notice is hereby given that the Bureau of Land Management (BLM), Nevada State Office and Ely Field Office, will be initiating the preparation of an environmental impact statement (EIS) and conducting public scoping meetings to analyze the proposed Kane Springs Valley (KSV) Groundwater Development Project, which will include production wells, a water transmission pipeline with lateral pipelines, electric lines, and communication lines. The purpose of the project is to develop and convey water from Kane Springs Valley to private land in the Coyote Springs Valley.

DATES: The scoping comment period will commence with the publication of this notice in the Federal Register and will end on May 1, 2006. Comments on the scope of the EIS, including concerns, issues, or proposed alternatives that should be considered in the EIS must be submitted in writing to the address below and will be accepted throughout the scoping period. There will also be public meetings during the 30-day scoping period. The dates, times, and locations of the public meetings will be announced through the local news media.

ADDRESSES: Please mail written comments to the BLM, Ely Field Office, HC 33 Box 33500, Ely Nevada 89301, (fax (775) 289-1910). Comments submitted during this EIS process, including names and street addresses of respondents will be available for public review at the Ely Field Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or business, will be made available for public inspection in their entirety.

FOR FURTHER INFORMATION CONTACT: Penny Woods, BLM Nevada State Office, (775) 861-6466. You may also contact Ms. Woods to have your name added to the EIS mailing list.

SUPPLEMENTARY INFORMATION: The KSV Groundwater Development Project, which is being proposed by the Lincoln County Water District (LCWD), would be located in southwestern Lincoln County. The proposed project would develop and convey groundwater in Kane Springs Valley to private land (formerly known as the Aerojet land) in the Coyote Springs Valley. The volume of water to be transported through the proposed facilities would be approximately 5,000 acre-feet per year.

The proposed facilities include 7 groundwater production wells (16″ diameter), 4-mile long water transmission pipeline (24″ diameter), and lateral pipelines (12″ diameter) to connect the transmission pipeline to the production wells. The pipelines and wells would be located along or near the Kane Springs Road. The proposed width of the permanent right-of-way for the transmission pipeline and lateral pipelines is 20 feet. During construction of the pipelines, a temporary width of 60 feet would be needed. Electric and communication lines would be located within the permanent right-of-way for the pipelines. Access roads approximately 12 feet in width would be needed from the Kane Springs Road to each well site. Each well site would require a temporary construction area of 100 feet × 200 feet.

The facilities would be generally located within and/or across the following public lands about 65 miles northeast of Las Vegas:

Mount Diablo Meridian

T. 11 S., R. 63 E.,

Sections 1, 11, 12, 14 and 15.

T. 11 S., R. 64 E.,

Section 6.

A map of the proposed project is available for viewing at the Bureau of Land Management, Ely Field Office, 702 North Industrial Way, Ely NV 89301.

Dated: March 27, 2006.
Amy Lueders,
Associate State Director, Nevada.

[FR Doc. E6-4707 Filed 3-30-06; 8:45 am]

BILLING CODE 4310-HC-P